DEPARTMENT OF HEALTH AND HUMAN SERVICES

Office of Refugee Resettlement

Statement of Organization, Functions, and Delegations of Authority

AGENCY: Office of Refugee Resettlement, Administration for Children and Families, HHS.

ACTION: Notice; realignment of the Office of Refugee Resettlement.

SUMMARY: The Administration for Children and Families (ACF) has realigned the Office of Refugee Resettlement (ORR). This notice makes ORR's Refugee Program and Unaccompanied Children Program the Refugee Program Bureau and the Unaccompanied Children Bureau, respectively; creates the Bureau of Operations; and aligns divisions with the bureau they support.

FOR FURTHER INFORMATION CONTACT: Michael Smith, Chief Operating Officer, Office of Refugee Resettlement, 330 C Street SW, Washington, DC 20201, phone 202-401-4657.

SUPPLEMENTARY INFORMATION: This notice amends Part K of the Statement of Organization, Functions, and Delegations of Authority of the Department of Health and Human Services (HHS), Administration for Children and Families (ACF), as follows: Chapter KR, Office of Refugee Resettlement, as last amended by 85 FR 85643, 2020-28706 (December 29, 2020).

I. Under Chapter KR, Office of Refugee Resettlement, delete KR.10 Organization in its entirety and replace with the following:

KR.10 Organization. The Office of Refugee Resettlement (ORR) is headed by a Deputy Assistant Secretary for Humanitarian Services and Director, who reports directly to the Assistant Secretary for Children and Families. The office is organized as follows:

Office of the Director/Deputy Assistant Secretary for Humanitarian Services (KRA)

Refugee Program Bureau (KRB)

Division of Refugee Assistance (KRB1)

Division of Refugee Services (KRB2)

Division of Refugee Health (KRB3)

Division of Refugee Children Services (KRB4)

Division of Refugee Policy (KRB5)

Division of Monitoring, Evaluation, and Learning (KRB6)

Division of Refugee Data and Information (KRB7)

Division of Interagency Outreach and Response (KRB8)

Unaccompanied Children Bureau (KRC)

Division of Unaccompanied Children Services (KRC1)

Division of Planning and Logistics (KRC2)

Division of Health for Unaccompanied Children (KRC3)

Division of Unaccompanied Children Field Operations (KRC4)

Division of Unaccompanied Children Policy (KRC5)

Division of Unaccompanied Child Protection Investigations (KRC6)

Division of Grants Management (KRC7)

Division of Unaccompanied Children Placements (KRC8)

Division of Quality Improvement and Performance Management (KRC9)

Division of Unaccompanied Children Data Analytics and Information Management (KRC10)

Bureau of Operations (KRD)

Division of Budget Planning and Analysis (KRD1)

Division of Office Operations (KRD2)

Division of Acquisitions Requirements (KRD3)

Division of Technology (KRD4)

II. Under Chapter KR, Office of Refugee Resettlement, deletes KR.20 Functions in its entirety and replaces it with the following:

KR.20 Function. A. The Office of the Director/Deputy Assistant Secretary for Humanitarian Services (ORR Director/DAS-HS) is directly responsible to the Assistant Secretary for Children and Families for carrying out ORR's statutory mandates and mission and providing guidance and general supervision to the components of ORR. The ORR Director/DAS-HS has specific legal authorities provided by section 411 of the Refugee Act of 1980, section 462 of the Homeland Security Act of 2002, and delegated per section 235 of the William Wilberforce Trafficking Victims Protection Reauthorization Act of 2008, and provides executive level leadership and direction on national policy and programming. The Principal Deputy Director, in coordination with the ORR Director/DAS-HS, oversees overall program effectiveness. Program administration and management is carried out by the Director of the Refugee Program Bureau, the Director of the Unaccompanied Children Bureau, and the Chief Operating Officer.

The ORR Director/DAS-HS coordinates with the lead refugee and entrant program offices of other Federal departments; provides leadership in representing refugee and entrant programs, policies, and administration to a variety of governmental entities and other public and private interests; and acts as the coordinator of the refugee and entrant resettlement efforts for ACF and the Department. The ORR Director/DAS-HS oversees the care and custody of unaccompanied children, grants specific consent for those who wish to invoke the jurisdiction of a state court for a dependency order to seek Special Immigrant Juvenile (SIJ) status, and makes placement determinations for those eligible for the Unaccompanied Refugee Minors (URM) Program. The Office of the Director/DAS-HS develops regulations, legislative proposals, and routine interpretations of policy; implements strategic initiatives and management priorities; and oversees communications for the office, including responses to media requests, congressional inquiries, and stakeholder engagements. In the absence of the ORR Director/DAS-HS, the Principal Deputy Director serves as head of office. Within the Office of the Director, the Strategic Initiatives team, the Enterprise Analytics team, the Integrity and Accountability team, and the Communications and Partnerships team provide direct support to the Office of the Director/DAS-HS.

The Strategic Initiatives team oversees the development and monitoring of office-wide and bureau-specific strategic priorities and provides periodic reviews of progress. The Enterprise Analytics team provides ORR leadership with analytics-related programmatic briefs, leads data analysis on projects in collaboration with supporting divisions across the ORR bureaus, and supports the office of the ORR Director/DAS-HS. The Integrity and Accountability team is responsible for the mitigation, identification, and reporting of attempted fraud. The Communications and Partnerships team monitors and responds to media outlets; provides support for stakeholder engagement; manages digital communication channels; oversees the clearance processes for communication materials, rollout plans, and reports and documents that ORR is required to publicly post; and manages both internal and external communications.

B. The Refugee Program Bureau is responsible for carrying out programs that assist all populations deemed eligible by Congress for Refugee Program services, including refugees, asylees, Cuban and Haitian entrants, certain Amerasians, certain Humanitarian Parolees and Special Immigrants, Survivors of Torture, and certified victims of severe forms of trafficking in persons. The Refugee Program Bureau consists of the Division of Refugee Assistance; the Division of Refugee Services; the Division of Refugee Health; the Division of Refugee Children Services; the Division of Refugee Policy; the Division of Monitoring, Evaluation, and Learning; the Division of Refugee Data and Information; and the Division of Interagency Outreach and Response. The Director of the Refugee Program Bureau reports directly to the ORR Director/DAS-HS.

Division of Refugee Assistance (KRB1)

The Division of Refugee Assistance represents ORR nationally and regionally in coordinating services and capacity for refugees in a manner that helps refugees become employed and economically self-sufficient and integrated into their local communities soon after they arrive in the United States. The Division oversees and provides technical assistance to the state- administered domestic assistance programs and Wilson/Fish projects. The Division works closely with each state in designing a resettlement program specific to the needs of incoming populations. The Division develops guidance and procedures for their implementation and manages special initiatives to increase refugee self-sufficiency, such as through state-funded discretionary grants or pilot programs. The Division assists in coordinating and planning refugee support services among public and private agencies and supports the flow of information on refugee profiles and community resources in support of effective placement at the state and local levels. The Division manages the effective allocation of formula social services and targeted assistance in support of newly arriving populations. The Division tracks all state costs related to refugee assistance.

Division of Refugee Services (KRB2)

The Division of Refugee Services manages effective refugee resettlement through the programmatic implementation of grants, contracts, and special initiatives of transitional services. The Division initiates, publishes, oversees, and manages most Refugee Program Bureau discretionary grants; develops program guidelines; recommends grantee allocation; coordinates with the grants management office to review the financial expenditures under discretionary grant programs; provides data in support of apportionment requests; and provides technical assistance on discretionary grant operations. The Division coordinates and provides liaison with other Federal entities on discretionary grant operational issues and other activities as specified by the Bureau Director or required by Congressional mandate. The Division responds to unanticipated refugee and entrant arrivals or significant increases in arrivals to communities where adequate or appropriate services do not exist through supplemental initiatives. The Division works to promote economic independence among refugees through employment-related services, social services, educational services, and intensive case management and community development initiatives.

Division of Refugee Health (KRB3)

The Division of Refugee Health provides direction for ensuring that refugees are provided medical assistance and mental health services through state-administered programs and alternative programs. The Division ensures the quality of medical screening and initial medical treatment of refugees through its administration of grant programs, development of program guidance, technical assistance, and interagency agreements in support of comprehensive medical and mental health services. The Division also supports mental health services for victims of torture. The Division works closely with State Refugee Health Coordinators in the planning and provision of medical and mental health services to meet the individual needs of incoming populations through the Refugee Health Promotion Program and other behavioral health discretionary grant initiatives. The Division oversees the provision of psychosocial and rehabilitative services through Survivors of Torture programs. The Division tracks all state costs related to refugee medical assistance and screening.

Division of Refugee Children Services (KRB4)

The Division of Refugee Children Services provides oversight of foster care placement and services to unaccompanied refugee minors and other special populations of youth in the United States. The Division has two primary components: (1) the Unaccompanied Refugee Minors (URM) Program, which focuses on the safety, education, well-being, permanency, and self-sufficiency of youth in foster care, and (2) coordination of services through technical assistance and capacity building across ORR programs with a child-protection lens to ensure the safety and well-being of children and youth as they navigate the refugee resettlement and integration process. The Division oversees the work of the URM Program, working closely with states to ensure sufficient capacity to serve all URM-eligible populations. The Division provides oversight to the state administered URM Program, develops guidance for program administration and implementation, and provides technical assistance on a variety of administrative, case, programmatic, financial, and policy matters. The Division also manages all data collected on youth served in the URM Program and through other refugee-related programs.

Division of Refugee Policy (KRB5)

The Division of Refugee Policy develops clearance and informational memoranda, briefing materials, and summary statements for ORR, ACF, and department leadership on complex and sensitive matters. The Division collaborates with other ORR divisions and regional staff to clarify and enhance existing policies and guidance, particularly in areas where the work of two or more divisions and the regions overlaps. The Division's main activities include: interpreting and developing statutory and regulatory guidance, reviewing legislation and its impacts on the Refugee Program Bureau, coordinating with the Office of General Counsel on all relevant legal issues, drafting and publishing policy letters and other forms of responsive guidance in collaboration with ORR leadership and other ORR divisions, clarifying eligibility for ORR services, enhancing existing guidance and procedures, providing technical assistance and training on policy, and reviewing OMB-approved data collections and interagency data-sharing agreements. The Division also serves as the Refugee Program Bureau's point of contact for other ACF and HHS offices related to legal and congressional coordination, such as the Government Accountability Office (GAO), Office of the Inspector General (OIG), Office of the General Counsel (OGC), Office of Legislative Affairs and Budget (OLAB), and others, and takes the lead in coordinating the development of the Annual Report to Congress and responding to congressional inquiries.

Division of Monitoring, Evaluation and Learning (KRB6)

The Division of Monitoring, Evaluation and Learning leads cross-divisional monitoring of all refugee programs and services, including the development of monitoring instruments, conducting monitoring reviews, investigating grievances, maintaining dashboards to visualize monitoring results, and tracking programmatic outcomes and grantee performance. The Division leads the development of learning agendas and oversight of research and evaluation projects, such as the Annual Survey of Refugees. The Division also coordinates cross-divisional assessment and utilization of ORR refugee-related data to ensure it is being leveraged in a unified and effective manner and that it is supporting data-informed decision making and learning.

Division of Refugee Data and Information (KRB7)

The Division of Refugee Data and Information provides integrated governance and data management for all new and existing tools and technologies designed to capture, track, and analyze refugee program data. The Division develops data sharing agreements to ensure the receipt of arrival data from key Federal sources. The Division identifies data needs to support best-in-class data services for the Refugee Program Bureau and oversees relevant data strategy and governance policies. The Division tracks the different populations served by the Refugee Program Bureau for planning and estimation purposes, and creates dashboards to organize data and address information, reporting, and quality control needs. The Division collaborates with other ORR divisions to analyze, interpret, and leverage data for enhanced efficiency, transparency, and integrity. The Division ensures that the Refugee Program Bureau is compliant with the National Archives and Records Administration's regulations. The Division works with stakeholders and partners to establish and maintain secure linkages between data sources and provides account management and training to the Refugee Program Bureau data users.

Division of Interagency Outreach and Response (KRB8)

The Division of Interagency Outreach and Response has three key components: leading the Refugee Program Bureau's work on emergency preparedness and response, conducting national outreach to partners and stakeholders, and coordinating with other Federal partners to improve access to refugee program services and benefits for all eligible populations. The Division serves as the subject matter expert on responding to increases in non-traditional eligible populations and emergency scenarios involving eligible populations already in the United States; coordinates with interagency partners to ensure ORR presence in response planning and implementation for events that impact refugee communities; and develops state interagency plans and capabilities to support preparedness for potential emergency events. The Division develops national partnerships to facilitate regional and local collaboration in support of the Refugee Program Bureau and develops and implements education and training initiatives to improve partners' understanding of ORR and its services and populations. Through outreach, the Division solicits, designs, and integrates the lived experience of refugees and diaspora communities into ORR programs, policies, and partnerships; develops and launches advisory councils in support of refugee community outreach; and conducts listening sessions and information sessions with refugee communities to better understand their needs and share available resources.

C. The Unaccompanied Children Bureau is directly responsible for providing care and services to unaccompanied children who are in Federal custody by reason of their immigration status and are referred to ORR for care and custody, pursuant to the Homeland Security Act of 2002 and the William Wilberforce Trafficking Victims Protections Reauthorization Act of 2008. The Unaccompanied Children Bureau consists of the Division of Unaccompanied Children Services, Division of Planning and Logistics, Division of Health for Unaccompanied Children, Division of Unaccompanied Children Field Operations, Division of Unaccompanied Children Policy, Division of Child Protection Investigations, Division of Grants Management, Division of Unaccompanied Children Placements, Division of Quality Improvement and Performance Management, and Division of Unaccompanied Children Data Analytics and Information Management. The Bureau maintains statistical information and data on each child and any actions concerning the child while the child is under the Director's care; oversees receipt and investigations of allegations of abuse; and monitors and inspects facilities and placement locations in which unaccompanied children reside. Further, Unaccompanied Children Bureau staff ensure that services are administered in a manner that supports child welfare standards of care and services, ensuring consideration of the child's best interest in care and custody decisions. The Director of the Unaccompanied Children Bureau reports directly to the ORR Director/DAS-HS.

Division of Unaccompanied Children Services (KRC1)

The Division of Unaccompanied Children Services oversees the provision of culturally appropriate legal, language, advocacy, and educational services to children in ORR facilities, which are funded through contracts and grants. The Division manages the integration of lived experience and youth voice into ORR's practices and recommendations for policies to the Division of Unaccompanied Children Policy. The Division has a regional component with staff who serve as liaisons of the Unaccompanied Children Bureau in local communities, in order to foster communication and collaboration with state and local governments, as well as community level stakeholders. The regional staff provide best practices training and technical assistance to post-release service providers and community partners who work with unaccompanied children and their sponsors.

Division of Planning and Logistics (KRC2)

The Division of Planning and Logistics oversees the development of comprehensive plans relating to influx care shelters and assists in the development and review of the annual plan to ensure that the Unaccompanied Children Bureau can accommodate the number of referrals of children to ORR care. The Division prepares plans for anticipated influx or emergency shelter capacity and staffing needs, as well as shipping and storage of materials. When ORR requires emergency or influx facilities to care for unaccompanied children, the Division leads the operational and logistical support of that incident response and coordination with other Federal agencies.

Division of Health of Unaccompanied Children (KRC3)

The Division of Health for Unaccompanied Children oversees the provision of medical and mental health services for unaccompanied children in ORR care, including vaccinations and medical examinations. The Division manages relevant public health responses to communicable diseases in collaboration with local public health authorities.

Division of Unaccompanied Children Field Operations (KRC4)

The Division of Unaccompanied Children Field Operations is responsible for working directly with unaccompanied children provider programs to ensure the safety of children in ORR care and the compliance with ORR regulations and policy guidance. The Division works with provider programs to deliver technical assistance and/or corrective action plans to ensure compliance with all program requirements. The Division also reviews, approves, or denies potential sponsors for the safe and timely release of children under the care and custody of ORR.

Division of Unaccompanied Children Policy (KRC5)

The Division of Unaccompanied Children Policy is responsible for drafting, researching, developing, reviewing, coordinating, and implementing program regulations and other Federal Register publications, policies, procedures, guidance, and information collections; interpreting program authorities, including statutes; coordinating relevant legal matters with the OGC; representing ORR in unaccompanied children redetermination hearings; assisting with the organization and management of administrative hearings and matters; ensuring the Unaccompanied Children Bureau's compliance with court orders, settlements, and court mandated reporting; responding to congressional inquiries and correspondence; reviewing proposed legislation and reports to Congress; and coordinating responses to oversight requests, including audits and investigations by the OIG, congressional committees, and the GAO. The Division advises ACF, ORR, and the Unaccompanied Children Bureau leadership, deputies, division directors, and staff on program authorities and requirements. The Division prepares formal, written memoranda; briefings with executive and legislative branch officials and state and local government officials; hearing documents; and litigation documents for ORR, the Unaccompanied Children Bureau leadership, and others as directed.

Division of Child Protection Investigations (KRC6)

The Unaccompanied Children Bureau, Division of Child Protection Investigations investigates certain allegations of child abuse or neglect at ORR care provider facilities, where the Division has jurisdiction. The Division receives reports of alleged abuse or neglect involving unaccompanied children in ORR custody; investigates those claims where it has jurisdiction; initiates and conducts investigations to establish findings in relation to alleged abuse or neglect, including examining evidence and conducting interviews; issues reports; follows administrative processes as required; and submits final reports or findings to appropriate Federal, state, and local officials. The Division issues recommended corrective actions or other disciplinary actions following their investigation to ORR officials and others, as appropriate.

Division of Grants Management (KRC7)

The Division of Grants Management supports specialized care through grants and conducts grants compliance and administration monitoring and oversight of facilities and services where unaccompanied children reside, as well as grants for services provided to children after their release from ORR care. The Division also ensures staff working with unaccompanied children, while in care and post-release, meet minimum qualifications and background check requirements.

Division of Unaccompanied Children Placements (KRC8)

The Division of Unaccompanied Children Placements implements intake and placement decisions for all unaccompanied children referred to ORR. The Division provides interagency coordination between ORR and Federal agencies referring placement into ORR care and custody. The Division is also responsible for transfers within the ORR provider network of programs and the placement of unaccompanied children who qualify for long-term placements within ORR care.

Division of Quality Improvement and Performance Management (KRC9)

The Division of Quality Improvement and Performance Management includes the following teams: Prevention of Child Abuse and Neglect, Monitoring, Provider Performance Management, and Continuous Quality Improvement. The Division supports and promotes a continuous quality improvement approach by focusing on the prevention of abuse and neglect, monitoring Unaccompanied Children programs for quality and compliance, addressing concerns, and supporting the capacity of care providers to ensure the safety and well-being of unaccompanied children.

Division of Unaccompanied Children Data Analytics and Information Management (KRC10)

The Division of Unaccompanied Children Data Analytics and Information Management provides real-time situational awareness for the Unaccompanied Children Bureau and enables data-driven decision-making and planning through data analytics, predictive modeling, and information sharing. The Division monitors and analyzes internal and external data and statistical information on funded programs, service providers, and on specific cases, as applicable.

D. The Bureau of Operations oversees the resourcing of operational requirements in support of ORR's mission. The Bureau of Operations receives mission requirements (budget, acquisitions, human resource requirements, and technology) and provides resources as directed by the ORR Director/DAS-HS. The team coordinates with ORR, ACF, and HHS counterparts to ensure regulatory compliance and timely response to requirements and maintains a customer service focus in meeting needs. The Chief Operating Officer reports directly to the Office of the ORR Director/DAS-HS.

The Division of Office Operations

In collaboration and coordination with ACF, the Division of Office Operations provides advice and assistance to ORR managers in their personnel management activities, including recruitment, selection, position management, performance management, designated performance and incentive awards, employee assistance programs, and other services. The Division provides management, direction, and oversight of the following personnel administrative services: the exercise of appointing authority, position classification, awards authorization, performance management evaluation, personnel action processing and record keeping, merit promotion, special hiring, and placement programs. The Division serves as liaison between ORR, ACF, HHS, the Staffing, Recruitment and Operations Center (SROC), and the Office of Personnel Management (OPM). The Division provides technical advice and assistance on personnel policy, regulations, and laws. The Division formulates and interprets policies pertaining to existing personnel administration and management matters and formulates and interprets new human resource programs and strategies.

The Division of Budget Planning and Analysis

The Division of Budget Planning and Analysis leads ORR in the development, analysis, formulation, planning, tracking, execution, and implementation of budgetary resources and fiscal compliance functions for the office. The Division prepares annual budget estimates and related materials, coordinates technical assistance for appropriations committees and other budget stakeholders, and performs allocation and tracking of funds for all programs. The Division performs analysis on the changing needs of the populations served by ORR, provides leadership to identify budget resources, and formulates fiscal impact estimates for regulatory requirements and other policy proposals. The team certifies funding availability for grants, contracts, travel, and other expenses; oversees inter-agency agreement execution; and facilitates compliance with congressional appropriations report requirements to ensure timely mission execution. As projects end, the Division reviews unliquidated obligations to identify potential for recoupment of any funds remaining to be re-allocated.

The Division of Acquisitions Requirements

The Division of Acquisitions Requirements oversees the development and coordination of contracting solutions to meet programmatic needs across ORR. It drives and develops acquisition forecasts for ORR programs with program directors and works with ORR project managers and technical representatives to define needs and develop requirements. The Division coordinates review of acquisition documents with ORR stakeholders and coordinates program and contract management reviews with ORR project managers and ACF, HHS, and other contract offices.

The Division works closely with the Division of Budget Planning and Analysis to align procurement needs against funding plans and constraints. Post-award, the Division performs delegated contract administration functions to ensure the full range of contract performance oversight, including but not limited to performance monitoring and assessment, quality assurance surveillance, and contract modification and follow-on action planning as appropriate. The Division develops ORR acquisition requirement processes and procedures and coordinates contractor corrective action with program managers, subject matter experts, and ORR monitoring and other teams.

The Division of Technology

The Division of Technology oversees the development and implementation of technological solutions to enhance the efficiency and effectiveness across all three ORR bureaus. The Division takes program requirements and works within the development teams to design or procure systems to meet ORR requirements. The Division also analyzes cybersecurity requirements to ensure sensitive data and information is safeguarded against unauthorized access and ensures a customer service focus to meet operational needs.

III. Continuation of Policy. Except as inconsistent with this reorganization, all statements of policy and interpretations with respect to organizational components affected by this notice within ACF, heretofore issued and in effect on this date of this reorganization, are continued in full force and effect.

IV. Delegation of Authority. All delegations and re-delegations of authority made to officials and employees of affected organizational components will continue in them or their successors pending further re-delegations, provided they are consistent with this reorganization.

V. Funds, Personnel, and Equipment. Transfer of organizations and functions affected by this reorganization shall be accompanied in each instance by direct and support funds, positions, personnel, records, equipment, supplies, and other resources.

This reorganization will be effective upon date of signature.

Steven J. Hild,
Principal Deputy Assistant Secretary for the Administration for Children and Families, performing the delegable duties of the Assistant Secretary for Children and Families.

[FR Doc. 2024-12806 Filed 6-11-24; 8:45 am]

BILLING CODE 4184-45-P